DEPARTMENT OF AGRICULTURE

Forest Service

Land Between the Lakes Advisory Board

AGENCY: Forest Service, Agriculture (USDA).

ACTION: Notice of meeting.

SUMMARY: The Land Between the Lakes Advisory Board will hold a public meeting according to the details shown below. The board is authorized under the Charter for the Land Between the Lakes Advisory Board and operates in compliance with the Federal Advisory Committee Act. The purpose of the board is to advise the Secretary of Agriculture on means of promoting public participation for the land and resource management plan for the Land Between the Lakes National Recreation Area, environmental education, and an annual work plan for recreation and environmental education areas in the recreation area. This includes the heritage program (with the non-appropriated amounts in the Land Between the Lakes Management Fund), an annual forest management and harvest plan for the Recreation Area, and the Land Between the Lakes Management Fund.

DATES: An in-person and virtual meeting will be held on October 16, 2025, 9 a.m. to 4 p.m. Central Daylight Time.

Written and Oral Comments: Anyone wishing to provide in-person or virtual oral comments must pre-register by 11:59 p.m., Central Daylight Time on October 13, 2025. Written public comments will be accepted by 11:59 p.m., Central Daylight Time on October 13, 2025. Comments submitted after this date will be provided by the Forest Service to the board, but the board may not have adequate time to consider those comments prior to the meeting.

All Land Between the Lakes Advisory Board meetings are subject to cancellation. For status of the meeting prior to attendance, please contact the person listed under FOR FURTHER INFORMATION CONTACT.

ADDRESSES: This meeting will be at held at the Supervisor's Office, located at 100 Van Morgan Drive, Golden Pond, Kentucky 42211. Members of the public may also participate in the meeting by joining virtually via videoconference at: Microsoft Teams/Meeting ID: 257 196 692 043 3, Passcode: ED9K6tn3; or Dial in by phone +1 (202) 650-0123, Passcode# 255817002# United States, Washington, Phone conference ID: 255 817 002#. Committee information and meeting details can be found online at https://www.landbetweenthelakes.us/about-lbl/welcome/working-together/advisory-board-meetings/ or by contacting the person listed under FOR FURTHER INFORMATION CONTACT.

Written Comments: Written comments must be sent by email to SM.FS.LBL_AdBoard@usda.gov or via mail (postmarked) to Land Between the Lakes National Recreation Area, Christine Bombard, Board Coordinator, 100 Van Morgan Drive, Golden Pond, Kentucky 42211. The Forest Service strongly prefers comments to be submitted electronically.

Oral Comments: Persons or organizations wishing to make oral comments must pre-register by 11:59 p.m., Central Daylight Time, October 13, 2025, and speakers can only register for one speaking slot. Oral comments must be sent by email to SM.FS.LBL_AdBoard@usda.gov or via mail (postmarked) to Land Between the Lakes National Recreation Area, Christine Bombard, Board Coordinator, 100 Van Morgan Drive, Golden Pond, Kentucky 42211.

FOR FURTHER INFORMATION CONTACT: Jim McCoy, Designated Federal Officer, by phone at 870-214-0934 or email at SM.FS.LBL_AdBoard@usda.gov; or Christine Bombard, Board Coordinator, at 270-540-1889 or SM.FS.LBL_AdBoard@usda.gov.

SUPPLEMENTARY INFORMATION: The purpose of the meeting is to:

1. Approve meeting minutes;

2. Discuss old business/updates;

3. Discuss recreation fee schedule;

4. Discuss natural resource management; and

5. Schedule the next meeting.

Please contact the person listed under FOR FURTHER INFORMATION CONTACT, by or before the deadline, for all questions related to the meeting. All comments, including names and addresses when provided, are placed in the record and are available for public inspection and copying. The public may inspect comments received upon request.

Meeting Accommodations: If you are a person requiring reasonable accommodation, please make a request in advance for sign language interpreting, assistive listening devices, or other reasonable accommodation. For access to proceedings, please contact the person listed in the section titled FOR FURTHER INFORMATION CONTACT. All reasonable accommodation requests are managed on a case-by-case basis.

Equal opportunity practices, in accordance with USDA policies, will be followed in all membership appointments to the committee.

In accordance with Federal civil rights law and U.S. Department of Agriculture (USDA) civil rights regulations and policies, the USDA, its Agencies, offices, employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Dated: September 10, 2025.
Cikena Reid,
USDA Committee Management Officer.

[FR Doc. 2025-17672 Filed 9-11-25; 8:45 am]

BILLING CODE 3411-15-P